OFFICE OF THE UNITED STATES TRADE REPRESENTATIVE

Trade Policy Staff Committee; Initiation of Environmental Review of Doha Multilateral Trade Negotiations; Public Comments on Scope of Environmental Review

AGENCY: Office of the United States Trade Representative.

ACTION: Notice and request for comments.

SUMMARY: Pursuant to Executive Order 13141, 64 FR 63169 (Nov. 18, 1999), and implementing guidelines, 65 FR 79442 (Dec. 19, 2000), the Office of the United States Trade Representative (USTR), through the Trade Policy Staff Committee (TPSC), is initiating an environmental review of the multilateral negotiations launched in November 2001 at the World Trade Organization's Fourth Ministerial Meeting in Doha, Qatar. The negotiations are to be concluded within three years (not later than January 1, 2005).

The TPSC requests written public comments on the scope of the environmental review, including any reasonably foreseeable significant positive and negative environmental effects that might flow from economic changes attributable to the prospective agreements, and potential implications for environmental laws, regulations and other measures. The TPSC also welcomes public views on appropriate methodologies for conducting the review and the appropriate time to perform the environmental analysis, given the three-year time frame for the negotiations.

DATES: Public comments should be received no later than July 26, 2002.

FOR FURTHER INFORMATION CONTACT: For procedural questions concerning public comments, contact Gloria Blue, Executive Secretary, TPSC, Office of the USTR, 1724 F Street, NW., Washington, DC 20508, telephone (202) 395-3475. Questions concerning the environmental review should be addressed to the Environment and Natural Resources Section, USTR, telephone (202) 395-7320.

SUPPLEMENTARY INFORMATION: At the Fourth WTO Ministerial Meeting in Doha, Qatar, trade ministers representing more than 140 countries launched new multilateral trade negotiations. The agenda calls for a comprehensive 3-year negotiation, covering a variety of areas such as agriculture, services, industrial tariffs, WTO rules (including ways to clarify and improve disciplines on environmentally harmful fish subsidies), reduction in trade barriers to environmental goods and services, and limited aspects of the relationship between the WTO and multilateral environmental agreements. In a separate notice, the TPSC has requested public views on the general U.S. negotiating objectives and country and item-specific priorities for the Doha negotiations, including with respect to environmental objectives. 67 FR 12637 (March 19, 2002). That notice contains more detailed information concerning the scope of the negotiations. The Doha Ministerial Declaration and further information about the negotiations are available on USTR's website at www.ustr.gov. or on the WTO's website at www.wto.org.

Executive Order 13141-Environmental Review of Trade Agreements (November 1999) and implementing guidelines (December 2000) formalize the U.S. policy of conducting environmental reviews for certain major trade agreements. Reviews are used to identify potentially significant, reasonably foreseeable environmental impacts (both positive and negative), and information from the review can help facilitate consideration of appropriate responses where impacts are identified. The Order requires environmental reviews of certain types of agreements, including comprehensive multilateral trade rounds. See 64 FR 63169. Reviews address potential environmental impacts that may be associated with projected economic changes expected to occur as a result of the proposed agreement, and potential implications for environmental laws and regulations. The focus of the reviews is on impacts on the United States, although global and transboundary impacts may be considered, where appropriate and prudent.

In April 2001, USTR initiated an environmental review of the mandated WTO negotiations on agriculture and services, known as the “built-in agenda” negotiations. 66 FR 20846 (April 25, 2001). The “built-in agenda” review will be consolidated with this review of the Doha negotiations. It is not necessary to repeat comments submitted in response to the April 25, 2001 notice; those comments are being considered and are available for public inspection in the USTR Reading Room (see below). However, supplemental comments on the agriculture and services negotiations are welcome.

The TPSC recognizes that the Doha negotiations are at an early stage. As developments in the negotiations further clarify the scope of potential agreements, the TPSC anticipates that there will be other opportunities for the public to provide additional input as appropriate.

Written Comments

Persons submitting written comments should provide twenty (20) copies no later than July 26, 2002, to Gloria Blue at the above address. Where possible, respondents should also submit comments in electronic form by providing a disk together with the required twenty hard copies. The disk should be labeled and should clearly identify the software used and the respondent.

Written comments submitted in response to this request will be available for public inspection in the USTR Reading Room, in Room 3 of the USTR Annex, 1724 F Street, NW., Washington DC. An appointment to review the file may be made by calling (202) 395-6186. The Reading Room is open to the public from 10-12 a.m. and from 1-4 p.m., Monday through Friday.

Carmen Suro-Bredie,
Chair, Trade Policy Staff Committee.

[FR Doc. 02-12120 Filed 5-14-02; 8:45 am]

BILLING CODE 3190-01-P